DEPARTMENT OF COMMERCE

International Trade Administration

[A-583-008]

Certain Circular Welded Carbon Steel Pipes and Tubes From Taiwan: Partial Rescission of Antidumping Duty Administrative Review; 2018-2019

AGENCY: Enforcement and Compliance, International Trade Administration, Department of Commerce.

SUMMARY: The Department of Commerce (Commerce) is partially rescinding its administrative review of the antidumping duty order on certain circular welded carbon steel pipes and tubes from Taiwan for the period May 1, 2018, through April 30, 2019.

DATES: Applicable November 22, 2019.

FOR FURTHER INFORMATION CONTACT: Hannah Falvey or Nicolas Mayora, AD/CVD Operations, Office V, Enforcement and Compliance, International Trade Administration, Department of Commerce, 1401 Constitution Avenue NW, Washington, DC 20230; telephone: (202) 482-4889 or (202) 482-3053, respectively.

SUPPLEMENTARY INFORMATION:

Background

On May 1, 2019, Commerce published in the Federal Register a notice of opportunity to request an administrative review of the antidumping duty (AD) order on certain circular welded carbon steel pipes and tubes from Taiwan for the period of review May 1, 2018, through April 30, 2019.¹ Pursuant to requests from interested parties, Commerce initiated an administrative review with respect to 27 companies in accordance with section 751(a) of the Tariff Act of 1930, as amended (the Act).² Subsequent to the initiation of the administrative review, several interested parties timely withdrew their requests for 26 of these companies for which a review had been requested, as discussed below. No other party requested an administrative review of these companies.

¹ See Antidumping or Countervailing Duty Order, Finding, or Suspended Investigation; Opportunity to Request Administrative Review, 84 FR 18479 (May 1, 2019).

² See Initiation of Antidumping and Countervailing Duty Administrative Reviews, 84 FR 33739 (July 15, 2019).

Partial Rescission of Administrative Review

Pursuant to 19 CFR 351.213(d)(1), Commerce will rescind an administrative review, in whole or in part, if the party that requested the review withdraws its request within 90 days of the publication of the notice of initiation. The request for an administrative review of the following companies was withdrawn within 90 days of the date of publication of the Initiation Notice: Chite Enterprises Co., Ltd.; ³ Chung Hung Steel Corp.; ⁴ Far East Machinery Group; ⁵ Far East Machinery Co., Ltd.; ⁶ Fine Blanking & Tool Co., Ltd.; ⁷ Froch Enterprises; ⁸ Kao Hsing Chang Iron & Steel Corp.; ⁹ Hou Lih Co., Ltd.; ¹⁰ Locksure Inc.; ¹¹ Lang Hwang Corp.; ¹² Pacific Star Express; ¹³ Pat & Jeff Enterprise Co., Ltd.; ¹⁴ Pin Tai Metal Inc.; ¹⁵ New Chance Products Co., Ltd.; ¹⁶ Shanghai TR Steel Building Products Co., LTD.; ¹⁷ Shang Jouh Industrial Co., Ltd.; ¹⁸ Shengyu Steel Co., Ltd.; ¹⁹ Shuan Hwa Industrial Co., Ltd; ²⁰ Ta Chen Stainless Pipe Co., Ltd.; ²¹ Tension Steel Industries Co., Ltd.; ²² Titan Fastech Ltd.; ²³ YC Inox Co., Ltd.; ²⁴ Yeong Shien Industrial Co., Ltd.; ²⁵ Yieh Hsing Enterprise Co., Ltd.; ²⁶ Yousing Precision Industry Co., Ltd.²⁷ and Yujin Steel Industry Co., Ltd.²⁸ All review requests were withdrawn for each of these 26 companies, as detailed above. As a result, pursuant to 19 CFR 351.213(d)(1), Commerce is rescinding the administrative review of the AD order on certain circular welded carbon steel pipes and tubes with respect to these 26 companies. The instant review will continue with respect to the remaining company for which a review was initiated.

³ See Independence Tube Corporation and Southland Tube, Incorporated (Nucor Pipe Mills) Letter, “Certain Welded Carbon Steel Standard Pipes and Tubes from Taiwan: Partial Withdrawal of Request for Administrative Review,” dated October 15, 2019 (Nucor Pipe Mills Withdrawal Letter).

⁴ See Nucor Pipe Mills Withdrawal Letter; see also Wheatland Tube Letter, “Certain Circular Welded Carbon Steel Pipes and Tubes from Taiwan: Withdrawal of Request for Administrative Review,” dated October 15, 2019 (Petitioner Withdrawal Letter).

⁵ See Nucor Pipe Mills Withdrawal Letter.

⁶ See Nucor Pipe Mills Withdrawal Letter; see also Petitioner Withdrawal Letter.

⁷ Id.

⁸ See Nucor Pipe Mills Withdrawal Letter.

⁹ See Nucor Pipe Mills Withdrawal Letter; see also Petitioner Withdrawal Letter.

¹⁰ Id.

¹¹ Id.

¹² Id.

¹³ See Nucor Pipe Mills Withdrawal Letter.

¹⁴ See Nucor Pipe Mills Withdrawal Letter; see also Petitioner Withdrawal Letter.

¹⁵ See Nucor Pipe Mills Withdrawal Letter.

¹⁶ See Nucor Pipe Mills Withdrawal Letter; see also Petitioner Withdrawal Letter.

¹⁷ See Nucor Pipe Mills Withdrawal Letter.

¹⁸ Id.

¹⁹ See Nucor Pipe Mills Withdrawal Letter; see also Petitioner Withdrawal Letter.

²⁰ See Nucor Pipe Mills Withdrawal Letter.

²¹ Id.

²² Id.

²³ Id.

²⁴ Id.

²⁵ Id.

²⁶ See Petitioner Withdrawal Letter.

²⁷ See Nucor Pipe Mills Withdrawal Letter.

²⁸ Id.

Assessment

Commerce will instruct U.S. Customs and Border Protection (CBP) to assess antidumping duties on all appropriate entries. For the companies for which this review is rescinded, antidumping duties shall be assessed at rates equal to the cash deposit of estimated antidumping duties required at the time of entry, or withdrawal from warehouse for consumption, in accordance with 19 CFR 351.212(c)(l)(i). Commerce intends to issue appropriate assessment instruction to CBP 15 days after publication of this notice in the Federal Register, if appropriate.

Notification to Importers

This notice serves as a final reminder to importers of their responsibility under 19 CFR 351.402(f)(2) to file a certificate regarding the reimbursement of any antidumping duties prior to liquidation of the relevant entries during this review period. Failure to comply with this requirement could result in the presumption that reimbursement of any antidumping duties occurred and the subsequent assessment of doubled antidumping duties.

Notification Regarding Administrative Protective Orders

This notice also serves as a final reminder to parties subject to administrative protective order (APO) of their responsibility concerning the disposition of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

This notice is issued and published in accordance with sections 751(a)(1) and 777(i)(1) of the Act, and 19 CFR 351.213(d)(4).

Dated: November 15, 2019.
James Maeder,
Deputy Assistant Secretary for Antidumping and Countervailing Duty Operations.

[FR Doc. 2019-25379 Filed 11-21-19; 8:45 am]

BILLING CODE 3510-DS-P